DEPARTMENT OF LABOR

Office of the Secretary

Submission for OMB Review; Comment Request

May 20, 2003.

The Department of Labor (DOL) has submitted the following public information collection request (ICR) to the Office of Management and Budget (OMB) for review and approval in accordance with the paperwork Reduction Act of 1995 (Pub. L. 104-13, 44 U.S.C. Chapter 35). A copy of this ICR, with applicable supporting documentation, may be obtained by calling the Department of Labor. To obtain documentation contact Darrin King on 202-693-4129 (this is not a toll-free number) on e-mail: King.darrin@dol.gov.

Comments should be sent to Office of Information and Regulatory Affairs, Attn: OMB Officer for the Mine Safety and Health Administration, Office of Management and Budget, Room 10235, Washington, DC 20503 (202-395-7316—this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electric, mechanical, or other technological collection techniques or other forms of information technology, e.g., permitting electronic submission of responses.

Agency: Mine Safety and Health Administration (MSHA).

Type of Review: Extension of a currently approved collection.

Title: Identification of Independent Contractors.

OMB Number: 1219-0043.

Frequency: On occasion.

Affective Public: Business or other for-profit.

Type of mine/Type of response | Annual responses | Average response time (hours) | Annual burden hours
Metal and Nonmetal: |  |  |
Voluntary application | 1,167 | 0.13 | 152
Result of violation | 197 | 0.07 | 14
Coal: |  |  |
Voluntary application | 820 | 0.13 | 107
Result of violation | 45 | 0.07 | 3
Total | 2,229 |  | 275

Total Annualized capital/startup costs: $0.

Total annual costs (operating/maintaining systems or purchasing services): $655.

Description: 30 CFR 45.3 provides that independent contractors may voluntarily obtain a permanent MSHA identification number by submitting to MSHA their trade name and business address, a telephone number, an estimate of the annual hours worked by the contractor on mine property for the previous calendar year, and the address of record for the service of documents upon the contractor.

Ira L. Mills,
Departmental Clearance Officer.

[FR Doc. 03-13526 Filed 5-29-03; 8:45 am]

BILLING CODE 4510-43-M